INTERNATIONAL TRADE COMMISSION

[Investigation No. 731-TA-1091 (Second Review)]

Artists' Canvas From China

Determination

On the basis of the record ¹ developed in the subject five-year review, the United States International Trade Commission (“Commission”) determines, pursuant to section 751(c) of the Tariff Act of 1930 (19 U.S.C. 1675(c)) (“the Act”), that revocation of the antidumping duty order on artists' canvas from China would be likely to lead to continuation or recurrence of material injury to an industry in the United States within a reasonably foreseeable time.²

¹ The record is defined in sec. 207.2(f) of the Commission's Rules of Practice and Procedure (19 CFR 207.2(f)).

² Commissioner Dean A. Pinkert did not participate.

Background

The Commission, pursuant to section 751(c) of the Act, instituted this review on October 3, 2016 (81 FR 68049) and determined on January 6, 2017 that it would conduct an expedited review (82 FR 8208, January 24, 2017).

The Commission made this determination pursuant to section 751(c) of the Act (19 U.S.C. 1675(c)). It completed and filed its determination in this review on March 2, 2017. The views of the Commission are contained in USITC Publication 4674 (March 2017), entitled Artists' Canvas from China: Investigation No. 731-TA-1091 (Second Review).

By Order of the Commission.
Issued: March 2, 2017.
Katherine M. Hiner,
Acting Supervisory Attorney.

[FR Doc. 2017-04470 Filed 3-7-17; 8:45 am]

BILLING CODE 7020-02-P